ENVIRONMENTAL PROTECTION AGENCY

40 CFR Part 52

[EPA-R05-OAR-2008-0520; FRL-9708-8]

Approval and Promulgation of Implementation Plans; Michigan; Detroit-Ann Arbor Nonattainment Area; Fine Particulate Matter 2005 Base Year Emissions Inventory

AGENCY: Environmental Protection Agency (EPA).

ACTION: Proposed rule.

SUMMARY: EPA is proposing to approve the fine particulate matter (PM2.5) 2005 base year emissions inventory, a portion of the State Implementation Plan (SIP) revision submitted by the Michigan Department of Environmental Quality (MDEQ) on June 13, 2008. The emissions inventory is part of the June 13, 2008, SIP revision that Michigan submitted to meet the nonattainment requirements related to the Detroit-Ann Arbor (Livingston, Macomb, Monroe, Oakland, St. Clair, Washtenaw, and Wayne Counties) nonattainment area for the 1997 annual PM2.5 national ambient air quality standards (NAAQS). EPA is taking this action pursuant to sections 110 and 172 of the Clean Air Act (CAA).

DATES: Comments must be received on or before August 31, 2012.

ADDRESSES: Submit your comments, identified by Docket ID No. EPA-R05-OAR-2008-0520, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2008-0520. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Carolyn Persoon, Environmental Engineer, at (312) 353-8290, before visiting the Region 5 office.

FOR FURTHER INFORMATION CONTACT: Carolyn Persoon, Environmental Engineer, Control Strategies Section, Air Programs Branch (AR-18J), Environmental Protection Agency, Region 5, 77 West Jackson Boulevard, Chicago, Illinois 60604, (312) 353-8290, persoon.carolyn@epa.gov.

SUPPLEMENTARY INFORMATION:

I. Background

II. Analysis of the State's Submittal

III. Proposed Action

IV. Statutory and Executive Order Reviews

I. Background

On July 18, 1997 (62 FR 38652), EPA established an annual PM2.5 NAAQS at 15.0 micrograms per cubic meter (µg/m³) based on a 3-year average of annual mean PM2.5 concentrations. On January 5, 2005 (70 FR 944), EPA published its air quality designations and classifications for the 1997 annual PM2.5 NAAQS based upon air quality monitoring data for calendar years 2001-2003. These designations became effective on April 5, 2005. The Detroit-Ann Arbor area (Livingston, Macomb, Monroe, Oakland, St. Clair, Washtenaw, and Wayne Counties) was designated nonattainment for the 1997 annual PM2.5 NAAQS.

Designation of an area as nonattainment starts the process for a state to develop and submit to EPA a SIP under title I, part D of the CAA. This SIP must include, among other elements, a demonstration of how the NAAQS will be attained in the nonattainment area as expeditiously as practicable, but no later than the date required by the CAA. Under CAA section 172(b), a state has up to three years after an area's designation as nonattainment to submit its SIP to EPA. For the 1997 PM2.5 NAAQS, these SIPs were due April 5, 2008. See 40 CFR 51.1002(a).

On June 13, 2008, Michigan submitted an attainment demonstration and associated reasonably available control measures (RACM), a reasonable further progress (RFP) plan, contingency measures, a 2005 base year emissions inventory and other planning SIP revisions related to attainment of the 1997 annual PM2.5 NAAQS in Detroit Ann-Arbor area. Subsequently, on July 5, 2011, MDEQ submitted a redesignation request for the Detroit-Ann Arbor area showing that the area had attained the 1997 annual PM2.5 NAAQS based upon complete, quality-assured and certified ambient air monitoring data for the 2007-2009 and 2008-2010 design value periods. On July 5, 2012 (77 FR 39659) EPA proposed to determine that the area has attained the 1997 annual and 2006 24-hour PM2.5 NAAQS based on the most recent three-years of complete certified data. If EPA finalizes these proposed determinations, it would suspend the obligation for the area to submit an attainment demonstration and associated RACM, RFP plan, contingency measures, and other planning SIP revisions related to attainment of each of these PM2.5 standards so long as the area continues to attain the NAAQS. See 40 CFR 51.1004(c).

With regard to the 1997 PM2.5 standard, EPA notes that its proposed determination of attainment did not suspend the obligation for the State to submit an emissions inventory under CAA section 172(c)(3), and EPA is therefore proposing to act upon this portion of the submission. Section 172(c)(3) of the CAA requires submission and approval of a comprehensive, accurate, and current inventory of actual emissions. EPA is proposing to approve the emissions inventory portion of the SIP revision submitted by MDEQ on June 13, 2008, as meeting the requirements of section 172(c)(3).

II. Analysis of the State's Submittal

As discussed above, section 172(c)(3) of the CAA requires areas to submit a comprehensive, accurate and current inventory of actual emissions from all sources of the relevant pollutant or pollutants in such area. MDEQ selected 2005 as base year for the emissions inventory per 40 CFR 51.1008(b). Emissions contained in MDEQ's June 13, 2008, SIP revision cover the general source categories of electric generating unit (EGU) point sources, non-EGU point sources, area sources, non-road mobile sources, marine-airport-rail (MAR) sources, on-road mobile sources, and modeled ammonia (NH3) sources. A detailed discussion of the emissions inventory development can be found in Appendix C of the MDEQ submittal; a summary is provided below.

The table below provides a summary of the annual 2005 emissions of nitrogen oxides (NOX), direct PM2.5, volatile organic compounds (VOCs), sulfur dioxide (SO2), and modeled NH3 included in MDEQ's submittal.

Table 1—2005 Annual NOX Emissions for the Detroit-Ann Arbor Area
[Tons per year]
County | Area source | Non-EGU point source | On-road source | Nonroad source | EGU point source | MAR source
Livingston | 647.95 | 654.19 | 5417.90 | 1288.10 | 5.91 | 83.97
Macomb | 2498.84 | 720.91 | 14121.20 | 5054.00 | 134.42 | 589.24
Monroe | 606.83 | 3774.97 | 5454.40 | 1404.17 | 38483.26 | 958.21
Oakland | 4535.97 | 1096.91 | 31088.00 | 7153.48 | 71397 | 822.22
St. Clair | 563.69 | 1978.16 | 3812.60 | 1519.17 | 19690.31 | 557.31
Washtenaw | 1056.74 | 1050.26 | 9962.20 | 2999.65 | 1.45 | 203.64
Wayne | 6039.67 | 9408.81 | 43981.40 | 9410.39 | 11369.40 | 4166.30

Table 2—2005 Annual Direct PM2.5 Emissions for the Detroit-Ann Arbor Area
[Tons per year]
County | Area source | Non-EGU point source | On-road source | Nonroad source | EGU point source | MAR source
Livingston | 1424.61 | 7.35 | 89.47 | 120.62 | 0.10 | 2.55
Macomb | 468.79 | 113.13 | 265.44 | 339.65 | 12.83 | 13.91
Monroe | 1176.54 | 668.31 | 91.00 | 121.96 | 597.66 | 29.11
Oakland | 761.34 | 124.44 | 559.86 | 614.54 | 8.86 | 23.91
St. Clair | 341.99 | 112.50 | 71.06 | 108.58 | 142.13 | 18.30
Washtenaw | 245.58 | 86.86 | 170.02 | 2632.17 | 0.02 | 6.02
Wayne | 920.34 | 1342.36 | 792.05 | 644.00 | 352.76 | 99.30

Table 3—2005 Annual VOC Emissions for the Detroit-Ann Arbor Area
[Tons per year]
County | Area source | Non-EGU point source | On-road source | Nonroad source | EGU point source | MAR source
Livingston | 4338.29 | 176.95 | 1696.90 | 1927.32 | 0.19 | 23.38
Macomb | 11807.62 | 2271.05 | 5784.70 | 4910.60 | 39.67 | 114.92
Monroe | 3663.62 | 3555.73 | 1742.60 | 1893.76 | 300.92 | 61.48
Oakland | 17387.40 | 2487.15 | 11918.00 | 9862.11 | 8.54 | 93.30
St. Clair | 2671.18 | 1379.00 | 1550.90 | 2166.18 | 285.49 | 43.26
Washtenaw | 5406.23 | 388.83 | 3348.70 | 2632.17 | 0 | 19.96
Wayne | 24887.81 | 6319.64 | 16931.10 | 8396.96 | 175.34 | 460.03

Table 4—2005 Annual SO2 Emissions for the Detroit-Ann Arbor Area
[Tons per year]
County | Area source | Non-EGU point source | On-road source | Nonroad source | EGU point source | MAR source
Livingston | 226.78 | 13.70 | 71.32 | 139.72 | 0.07 | 7.53
Macomb | 930.59 | 48.26 | 221.44 | 426.07 | 4.32 | 38.28
Monroe | 181.05 | 7733.15 | 72.83 | 139.75 | 120386.70 | 82.64
Oakland | 1187.41 | 274.99 | 458.48 | 683.20 | 3.43 | 64.67
St. Clair | 238.80 | 1752.75 | 59.06 | 125.05 | 66576.72 | 72.99
Washtenaw | 325.00 | 20.75 | 136.90 | 342.20 | 0.28 | 16.93
Wayne | 1540.36 | 6396.53 | 647.06 | 883.35 | 40780.46 | 398.38

Table 5—2005 Annual NH3 Emissions for the Detroit-Ann Arbor Area
[Tons per year]
County | Area source | Non-EGU point source | On-road source | Nonroad source | EGU point source | MAR source | Modeled NH3
Livingston | 3.32 | 0.15 | 200.7 | 1.30 | 0 | 0.05 | 280.31
Macomb | 13.42 | 16.24 | 645.87 | 4.42 | 0 | 0.27 | 224.2
Monroe | 2.88 | 79.41 | 205.50 | 1.44 | 2.59 | 0.57 | 638.69
Oakland | 24.91 | 19.73 | 1319.26 | 7.24 | 0 | 0.44 | 84.74
St. Clair | 3.29 | 10.33 | 171.71 | 1.71 | 11.78 | 0.34 | 273.56
Washtenaw | 6.71 | 4.48 | 388.25 | 2.66 | 0 | 0.12 | 738.07
Wayne | 32.01 | 132.61 | 1859.10 | 8.48 | 1.80 | 1.46 | 113.69

States develop the 172(c)(3) emissions inventory by the incorporation of data from multiple sources. States were required to develop and submit to EPA a triennial emissions inventory according to the Consolidated Emissions Reporting Rule for all source categories (i.e., point, area, nonroad mobile and on-road mobile). This inventory often forms the basis for data that states update with more recent information and data that they use in their attainment demonstration modeling inventory. Such was the case in the development of the 2005 emissions inventory that MDEQ submitted in its attainment SIP for the Detroit-Ann Arbor area. The 2005 emissions inventory was based on data developed with the Lake Michigan Air Directors Consortium (LADCO) and the Midwest Regional Planning Organization (MRPO) and submitted by the states to the 2005 National Emissions Inventory (NEI). Data from many databases, studies and models (e.g., Vehicle Miles Traveled, fuel programs, the NONROAD 2002 model data for commercial marine vessels, locomotives and Clean Air Market Division, etc.) resulted in the inventory submitted in this SIP. The data were developed according to current EPA emissions inventory guidance “Emissions Inventory Guidance for Implementation of Ozone and Particulate Matter National Ambient Air Quality Standards (NAAQS) and Regional Haze Regulations” (August 2005) and a quality assurance project plan that was developed through LADCO and approved by EPA.

EPA has reviewed MDEQ's emissions inventory and proposes to determine that it is adequate for the purposes of meeting section 172(c)(3) emissions inventory requirement. Further, EPA's review shows that the emissions were developed consistent with the CAA, implementing regulations and EPA guidance for emission inventories.

III. Proposed Action

EPA is proposing to approve the 2005 base year emissions inventory portion of the SIP revision submitted by MDEQ on June 13, 2008. EPA is making the determination that this action is consistent with sections 110 and 172 of the CAA.

IV. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this proposed action merely approves state law as meeting federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 F43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the Commonwealth, and EPA notes that it will not impose substantial direct costs on tribal governments or preempt tribal law.

List of Subjects in 40 CFR Part 52

Environmental protection, Air pollution control, Particulate matter, Reporting and record-keeping requirements.

Dated: July 13, 2012.
Susan Hedman,
Regional Administrator, Region 5.

[FR Doc. 2012-18799 Filed 7-31-12; 8:45 am]

BILLING CODE 6560-50-P